DEPARTMENT OF EDUCATION

Federal Perkins Loan, Federal Work-Study, and Federal Supplemental Educational Opportunity Grant programs

ACTION: Notice of the 2010-2011 award year deadline dates for the campus-based programs.

SUMMARY: The Secretary announces the 2010-2011 award year deadline dates for the submission of requests and documents from postsecondary institutions for the campus-based programs.

SUPPLEMENTARY INFORMATION: The Federal Perkins Loan, Federal Work-Study (FWS), and Federal Supplemental Educational Opportunity Grant (FSEOG) programs are collectively known as the campus-based programs.

The Federal Perkins Loan Program encourages institutions to make low-interest, long-term loans to needy undergraduate and graduate students to help pay for their education.

The FWS Program encourages the part-time employment of needy undergraduate and graduate students to help pay for their education and to involve the students in community service activities.

The FSEOG Program encourages institutions to provide grants to exceptionally needy undergraduate students to help pay for their cost of education.

The Federal Perkins Loan, FWS, and FSEOG programs are authorized by parts E and C, and part A, subpart 3, respectively, of title IV of the Higher Education Act of 1965, as amended.

Throughout the year, in its “Electronic Announcements,” the Department will continue to provide additional information for the individual deadline dates listed in the table under the Deadline Dates section of this notice, via the Information for Financial Aid Professionals (IFAP) Web site at: http://www.ifap.ed.gov.

Deadline Dates: The following table provides the 2010-2011 award year deadline dates for the submission of applications, reports, waiver requests, and other documents for the campus-based programs. Institutions must meet the established deadline dates to ensure consideration for funding or a waiver, as appropriate.

2010-2011 Award Year Deadline Dates
What does an institution submit? | How is it submitted? | What is the deadline for submission?
1. The Campus-Based Reallocation Form designated for the return of 2009-2010 funds and the request of supplemental FWS funds for the 2010-2011 award year. | The Reallocation Form must be submitted electronically via the Internet and is located in the “Setup” section of the FISAP on the Web at: http://www.cbfisap.ed.gov. | August 20, 2010.
2. The 2009-2010 Fiscal Operations Report and 2011-2012 Application to Participate (FISAP) | The FISAP is located on the Internet at the following Web site: http://www.cbfisap.ed.gov. The FISAP must be submitted electronically via the Internet, and the FISAP's signature page must be mailed to: FISAP Administrator, 2020 Company, LLC, 3110 Fairview Park Drive, Suite 950, Falls Church, VA 22042 | October 1, 2010.
3. The Work Colleges Program Report of 2009-2010 award year expenditures | The Work Colleges Program Report can be found in the “Setup” section of the FISAP on the Web at: http://www.cbfisap.ed.gov. | October 1, 2010.
| The report must be submitted electronically via the Internet, and a printed copy with an original signature must be submitted by one of the following methods:
| Hand deliver to: United States Department of Education Federal Student Aid Grants & Campus-Based Division, 830 First Street, NE., Room 62E3, Attn: Work Colleges Coordinator, Washington, DC 20002 or
| Mail to: The address listed above for hand delivery. However, please use ZIP Code 20202-5453
4. The 2009-2010 FISAP Edit Corrections and Perkins Cash on Hand Update | The FISAP is located on the Internet at the following Web site: http://www.cbfisap.ed.gov. | December 15, 2010.
| The FISAP Edit Corrections and Perkins Cash on Hand Update must be submitted electronically via the Internet
5. A request for a waiver of the 2011-2012 award year penalty for the underuse of 2009-2010 award year funds | The request for a waiver can be found in Part II, Section C of the FISAP on the Web at: http://www.cbfisap.ed.gov. The request and justification must be submitted electronically via the Internet | February 11, 2011.
6. The Institutional Application and Agreement for Participation in the Work Colleges Program for the 2011-2012 award year | The Institutional Application and Agreement for Participation in the Work Colleges Program can be found in the “Setup” section of the FISAP on the Web at: http://www.cbfisap.ed.gov. | March 11, 2011.
| The application and agreement must be submitted electronically via the Internet, and a printed copy with original signature must be submitted by one of the following methods:
| Hand deliver to: United States Department of Education, Federal Student Aid, Grants & Campus-Based Division, 830 First Street, NE., Room 62E3, Attn: Work Colleges Coordinator, Washington, DC 20002 or
| Mail to: The address listed above for hand delivery. However, please use ZIP Code 20202-5453
7. A request for a waiver of the FWS Community Service Expenditure Requirement for the 2011-2012 award year | The FWS Community Service waiver request can be found in the “Setup” section of the FISAP on the Web at: http://www.cbfisap.ed.gov. | April 22, 2011.
| The request and justification must be submitted electronically via the Internet
Note:
• The deadline for electronic submissions is 11:59 p.m. (Eastern time) on the applicable deadline date. Transmissions must be completed and accepted by 12:00 midnight to meet the deadline.
• Paper documents that are sent through the U.S. Postal Service must be postmarked by the applicable deadline date.
• Paper documents that are hand delivered by a commercial courier must be received no later than 4:30 p.m. (Eastern time) on the applicable deadline date.
• The Secretary may consider on a case-by-case basis the effect that a major disaster, as defined in section 102(2) of the Robert T. Stafford Disaster Relief and Emergency Assistance Act (42 U.S.C. 5122(2)), or another unusual circumstance has on an institution in meeting the deadlines.

Proof of Mailing or Hand Delivery of Paper Documents

If you submit paper documents when permitted by mail or by hand delivery from a commercial courier, we accept as proof one of the following:

(1) A legible mail receipt with the date of mailing stamped by the U.S. Postal Service.

(2) A legibly dated U.S. Postal Service postmark.

(3) A legibly dated shipping label, invoice, or receipt from a commercial courier.

(4) Other proof of mailing or delivery acceptable to the Secretary.

If the paper documents are sent through the U.S. Postal Service, we do not accept either of the following as proof of mailing: (1) A private metered postmark, or (2) a mail receipt that is not dated by the U.S. Postal Service. An institution should note that the U.S. Postal Service does not uniformly provide a dated postmark. Before relying on this method, an institution should check with its local post office. All institutions are encouraged to use certified or at least first-class mail.

The Department accepts hand deliveries from commercial couriers between 8:00 a.m. and 4:30 p.m., Eastern time, Monday through Friday except Federal holidays.

Sources for Detailed Information on These Requests

A more detailed discussion of each request for funds or waiver is provided in specific “Electronic Announcements,” which are posted on the Department's IFAP Web site (http://www.ifap.ed.gov) at least 30 days before the established deadline date for the specific request. Information on these items is also found in the Federal Student Aid Handbook.

Applicable Regulations: The following regulations apply to these programs:

(1) Student Assistance General Provisions, 34 CFR part 668.

(2) General Provisions for the Federal Perkins Loan Program, Federal Work-Study Program, and Federal Supplemental Educational Opportunity Grant Program, 34 CFR part 673.

(3) Federal Perkins Loan Program, 34 CFR part 674.

(4) Federal Work-Study Programs, 34 CFR part 675.

(5) Federal Supplemental Educational Opportunity Grant Program, 34 CFR part 676.

(6) Institutional Eligibility under the Higher Education Act of 1965, as amended, 34 CFR part 600.

(7) New Restrictions on Lobbying, 34 CFR part 82.

(8) Governmentwide Requirements for Drug-Free Workplace (Financial Assistance), 34 CFR part 84.

(9) Governmentwide Debarment and Suspension (Nonprocurement), 34 CFR part 85.

(10) Drug and Alcohol Abuse Prevention, 34 CFR part 86.

FOR FURTHER INFORMATION CONTACT: Kathleen Wicks, Director of Grants & Campus-Based Division, U.S. Department of Education, Federal Student Aid, 830 First Street, NE., Union Center Plaza, Room 62E3, Washington, DC 20202-5453. Telephone: (202) 377-3110 or via the Internet: kathleen.wicks@ed.gov.

If you use a telecommunications device for the deaf (TDD), call the Federal Relay Service (FRS), toll free, at 1-800-877-8339.

Individuals with disabilities can obtain this document in an accessible format (e.g. braille, large print, audiotape, or computer diskette) on request to the program contact person listed under FOR FURTHER INFORMATION CONTACT.

Electronic Access to This Document

You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Program Authority: 20 U.S.C. 1087aa et seq.; 42 U.S.C. 2751 et seq.; and 20 U.S.C. 1070b et seq.

Dated: March 10, 2010.
William J. Taggart,
Chief Operating Officer, Federal Student Aid.

[FR Doc. 2010-5614 Filed 3-12-10; 8:45 am]

BILLING CODE 4000-01-P